NATIONAL ARCHIVES AND RECORDS ADMINISTRATION

National Industrial Security Program Policy Advisory Committee; Meeting

AGENCY: National Archives and Records Administration.

ACTION: Notice of meeting.

SUMMARY: In accordance with the Federal Advisory Committee Act (5 U.S.C. app. 2) and implementing regulation 41 CFR 101.6, the National Archives and Records Administration (NARA) announces the meeting of the National Industrial Security Program Policy Advisory Committee.

DATES: November 2, 2006.

Time: 10 a.m.-12 noon

ADDRESSES: National Archives and Records Administration, 700 Pennsylvania Avenue, NW., Archivist Reception Room, Room 105, Washington, DC 20408.

Purpose: To discuss National Industrial Security Program policy matters.

This meeting will be open to the public. However, due to space limitations and access procedures, the name and telephone number of individuals planning to attend must be submitted to the Information Security Oversight Office (ISOO) no later than October 27, 2006. ISOO will provide additional instructions for gaining access to the location of the meeting.

FOR FURTHER INFORMATION CONTACT: Patrick Viscuso, Senior Program Analyst, Information Security Oversight Office, National Archives Building, 700 Pennsylvania Avenue, Washington, DC 20408, telephone number (202) 387-5313.

This notice is published less than 15 calendar days before the meeting because of scheduling difficulties.

Dated: October 24, 2006.
Mary Ann Hadyka,
Committee Management Officer.

[FR Doc. E6-18002 Filed 10-25-06; 8:45 am]

BILLING CODE 7515-01-P